DEPARTMENT OF TRANSPORTATION

Federal Aviation Administration

14 CFR Part 39

[Docket No. FAA-2019-1056; Product Identifier 2018-SW-047-AD]

RIN 2120-AA64

Airworthiness Directives; Airbus Helicopters (Previously Eurocopter France)

AGENCY: Federal Aviation Administration (FAA), DOT.

ACTION: Notice of proposed rulemaking (NPRM).

SUMMARY: The FAA proposes to supersede Airworthiness Directive (AD) 2009-25-09 for Eurocopter France (now Airbus Helicopters) Model SA 330 F, G, and J helicopters. AD 2009-25-09 currently requires re-adjusting the torque of the main gearbox (MGB) flexible coupling bolts. Since the FAA issued AD 2009-25-09, Airbus Helicopters has modified the MGB overhaul and repair procedures, which corrects the unsafe condition. Additionally, the FAA-validation for Model SA330F and G helicopters has been cancelled. This proposed AD would retain the requirements of AD 2009-25-09 but would revise the applicability by excluding Model SA330F and G helicopters and exclude MGBs that have been subject to the modified procedures. The actions of this proposed AD are intended to address the unsafe condition on these products.

DATES: The FAA must receive comments on this proposed AD by February 18, 2020.

ADDRESSES: You may send comments by any of the following methods:

• Federal eRulemaking Docket: Go to https://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at https://www.regulations.gov by searching for and locating Docket No. FAA-2019-1056; or in person at Docket Operations between 9 a.m. and 5 p.m., Monday through Friday, except Federal holidays. The AD docket contains this proposed AD, the European Aviation Safety Agency (EASA) AD, the economic evaluation, any comments received and other information. The street address for Docket Operations is listed above. Comments will be available in the AD docket shortly after receipt.

For service information identified in this proposed rule, contact Airbus Helicopters, 2701 N Forum Drive, Grand Prairie, TX 75052; telephone (972) 641-0000 or (800) 232-0323; fax (972) 641-3775; or at https://www.airbus.com/helicopters/services/technical-support.html. You may view service information at the FAA, Office of the Regional Counsel, Southwest Region, 10101 Hillwood Pkwy, Room 6N-321, Fort Worth, TX 76177.

FOR FURTHER INFORMATION CONTACT: Jignesh Patel, Aerospace Engineer, Safety Management Section, Rotorcraft Standards Branch, FAA, 10101 Hillwood Pkwy, Fort Worth, TX 76177; telephone (817) 222-5110; email jignesh.patel@faa.gov.

SUPPLEMENTARY INFORMATION:

Comments Invited

The FAA invites you to participate in this rulemaking by submitting written comments, data, or views. The FAA also invites comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

The FAA will file in the docket all comments received, as well as a report summarizing each substantive public contact with FAA personnel concerning this proposed rulemaking. Before acting on this proposal, the FAA will consider all comments received on or before the closing date for comments. The FAA will consider comments filed after the comment period has closed if it is possible to do so without incurring expense or delay. The FAA may change this proposal in light of the comments received.

Discussion

The FAA issued AD 2009-25-09, Amendment 39-16128 (74 FR 66045, December 14, 2009) (“AD 2009-25-09”) for Eurocopter France (now Airbus Helicopters) Model SA 330 F, G, and J helicopters. AD 2009-25-09 requires re-adjusting the tightening torque load of the MGB input flexible coupling-to-flange attachment bolts. AD 2009-25-09 was prompted by EASA AD No. 2008-0049-E, dated March 3, 2008 and corrected March 7, 2008 (EASA AD 2008-0049-E), issued by EASA, which is the Technical Agent for the Member States of the European Union, to correct an unsafe condition on Model SA 330 F, G, and J helicopters. The actions of AD 2009-25-29 were intended to prevent progressive fatigue failure of the coupling discs, caused by excessive fretting on the faces and in the bolt holes of the coupling discs, which could result in loss of the MGB input, loss of the drive transmission, and subsequent loss of control of the helicopter.

Actions Since AD 2009-25-09 Was Issued

Since the FAA issued AD 2009-25-09, EASA has issued AD No. 2008-0049R1, dated December 18, 2015 (EASA AD 2008-0049R1). EASA advises that since EASA AD 2008-0049-E was issued, Airbus Helicopters has improved its procedures for assembling the flexible coupling-to-flanges during MGB overhaul and maintenance of individual flexible couplings. EASA further states that the improved maintenance procedures ensure the correct torqueing of the attachment bolts of the flexible couplings. Because of these improved procedures, EASA AD 2008-0049R1 states that installing a coupling-to-flange assembly that has been subject to improved maintenance procedures after April 1, 2015, is an acceptable method to comply with the requirements of that AD. The FAA agrees with EASA's determination and therefore proposes to change AD 2009-25-09 accordingly.

Additionally, at the request of Airbus Helicopters, Model SA330F and G helicopters have been removed from the FAA Type Certificate Data Sheet (TCDS). According to Airbus Helicopters, none of these aircraft models are in existence. EASA, the state of design, has also removed these models from its TCDS. As a result, the FAA is removing these models from the applicability.

FAA's Determination

These helicopters have been approved by EASA and are approved for operation in the United States. Pursuant to the FAA's bilateral agreement with the European Union, EASA has notified the FAA of the unsafe condition described in its AD. The FAA is proposing this AD after evaluating all known relevant information and determining that an unsafe condition is likely to exist or develop on other helicopters of the same type design.

Related Service Information Under 1 CFR Part 51

The FAA reviewed Eurocopter Emergency Alert Service Bulletin No. 05.95, Revision 0, dated March 3, 2008, and Airbus Helicopters Emergency Alert Service Bulletin No. 05.95, Revision 1, dated October 22, 2015. This service information describes procedures for readjusting or checking the tightening torque load of the hardware attaching the flexible coupling to the sliding coupling flange and the bolts attaching the flexible coupling to the fixed coupling flange. Revision 1 of this service information excludes from its applicability certain flexible coupling assemblies that have undergone the improved procedures.

This service information is reasonably available because the interested parties have access to it through their normal course of business or by the means identified in the ADDRESSES section.

Proposed AD Requirements

This proposed AD would retain the attachment hardware torque verification and re-adjustment requirements of AD 2009-25-09, and would revise the applicability paragraph by excluding Model SA330F and G helicopters and by excluding input flexible coupling flange assemblies that have been installed in an MGB that has been overhauled after April 1, 2015.

Costs of Compliance

The FAA estimates that this proposed AD affects 16 helicopters of U.S. Registry. Labor costs are estimated at $85 per work-hour. Based on these numbers, the FAA estimates that operators may incur the following costs in order to comply with this AD.

Re-adjusting the tightening torque on the flexible coupling-to-flange attachment bolts would take about 8 work-hours for an estimated cost of $680 per helicopter and $10,880 to the U.S. fleet. For MGB input flexible coupling flange assemblies with more than 75 hours time-in-service, inspecting the tightening torque load on the flexible coupling-to-flange attachment bolts would take about 10 work-hours for an estimated cost of $850 per helicopter and $13,600 to the U.S. fleet.

If required, replacing a damaged flexible coupling would take about 1 work-hour in addition to those required for disassembling and inspecting the flexible coupling flange assembly and required parts would cost about $2,046 for an estimated cost of $2,131 per helicopter.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866,

2. Will not affect intrastate aviation in Alaska, and

3. Will not have a significant economic impact, positive or negative, on a substantial number of small entities under the criteria of the Regulatory Flexibility Act.

The FAA prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2009-25-09, Amendment 39-16128 (74 FR 66045, December 14, 2009), and adding the following new AD:

Airbus Helicopters (Previously Eurocopter France): Docket No. FAA-2019-1056; Directorate Identifier 2018-SW-047-AD.

(a) Comments Due Date

The FAA must receive comments by February 18, 2020.

(b) Affected ADs

This AD replaces AD 2009-25-09, Amendment 39-16128 (74 FR 66045, December 14, 2009).

(c) Applicability

This AD applies to Airbus Helicopters (previously Eurocopter France) Model SA330J helicopters, certificated in any category, with a main gearbox (MGB) input flexible coupling flange assembly part number 330A-32937401 installed that has been modified per MOD 0752416 and MOD 0752419, excluding:

(1) Assemblies that have been subject to a maintenance scheduled inspection per Working Card 65.32.601 since new or since a complete overhaul of the MGB; and

(2) Assemblies installed on an MGB that has undergone complete overhaul after April 1, 2015, and that have not been replaced since the complete overhaul of the MGB.

(d) Unsafe Condition

This AD defines the unsafe condition as progressive fatigue failure of the coupling discs, caused by excessive fretting on the faces and in the bolt holes of the coupling discs. This condition, if not corrected, could result in loss of the MGB input, loss of the drive transmission, and subsequent loss of control of the helicopter.

(e) Actions and Compliance

You are responsible for performing each action required by this AD within the specified compliance time unless it has already been accomplished prior to that time.

(1) For MGB input flexible coupling flange assemblies with less than 50 hours time-in-service (TIS) since new or since a complete overhaul of the MGB, re-adjust the tightening torque load of the 6 nuts on the flexible coupling-to-flange attachment bolts. Accomplish this re-adjustment between 50 hours TIS and 75 hours TIS since new or since a complete overhaul of the MGB in accordance with paragraph 2.B.2.a. of Eurocopter Emergency Alert Service Bulletin No. 05.95, Revision 0, dated March 3, 2008 (EASB 05.95) or Airbus Helicopters Emergency Alert Service Bulletin No. 05.95, Revision 1, dated October 22, 2015 (EASB 05.95 Rev 1).

(2) For MGB input flexible coupling flange assemblies with 50 hours TIS and 75 or less hours TIS since new or since a complete overhaul of the MGB, either:

(i) Upon or before reaching 75 hours TIS since new or since a complete overhaul of the MGB, re-adjust the tightening torque load of the 6 nuts on the flexible coupling-to-flange attachment bolts in accordance with paragraph 2.B.2.a. of EASB 05.95 or EASB 05.95 Rev 1; or

(ii) Upon or before reaching 125 hours TIS since new or since a complete overhaul of the MGB, inspect the tightening torque load of the 6 nuts on the flexible coupling-to-flange attachment bolts in accordance with paragraph 2.B.2.b. of EASB 05.95 or EASB 05.95 Rev 1, except you are not required to contact the manufacturer.

(3) For MGB input flexible coupling flange assemblies that have more than 75 hours TIS since new or since a complete overhaul of the MGB, within the next 50 hours TIS, inspect the tightening torque load of the 6 nuts on the flexible coupling-to-flange attachment bolts, in accordance with paragraph 2.B.2.b. of EASB 05.95 or EASB 05.95 Rev 1, except you are not required to contact the manufacturer.

(4) Prior to installing an MGB that contains an input flexible coupling flange assembly that has been modified per MOD 0752416 and MOD 0752419, you must comply with the provisions of this AD.

(f) Alternative Methods of Compliance (AMOCs)

(1) The Manager, Safety Management Section, FAA, may approve AMOCs for this AD. Send your proposal to: Jignesh Patel, Aerospace Engineer, Safety Management Section, Rotorcraft Standards Branch, FAA, 10101 Hillwood Pkwy., Fort Worth, TX 76177; telephone (817) 222-5110; email 9-ASW-FTW-AMOC-Requests@faa.gov.

(2) For operations conducted under a 14 CFR part 119 operating certificate or under 14 CFR part 91, subpart K, the FAA suggests that you notify your principal inspector, or lacking a principal inspector, the manager of the local flight standards district office or certificate holding district office before operating any aircraft complying with this AD through an AMOC.

(g) Additional Information

The subject of this AD is addressed in European Aviation Safety Agency (EASA) AD No. 2008-0049R1, dated December 18, 2015. You may view the EASA AD on the internet at https://www.regulations.gov in the AD Docket.

(h) Subject

Joint Aircraft Service Component (JASC) Code: 6310, Engine/Transmission Coupling.

Issued in Fort Worth, Texas, on December 11, 2019.
Gaetano A. Sciortino,
Acting Director, Compliance & Airworthiness Division, Aircraft Certification Service.

[FR Doc. 2019-27430 Filed 12-19-19; 8:45 am]

BILLING CODE 4910-13-P